DEPARTMENT OF HEALTH AND HUMAN SERVICES

Centers for Disease Control and Prevention

[60Day-02-60]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer on (404) 498-1210.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Send comments to Anne O'Connor, CDC Assistant Reports Clearance Officer, 1600 Clifton Road, MS-D24, Atlanta, GA 30333. Written comments should be received within 60 days of this notice.

Proposed Project: Aggregate Reports for Tuberculosis Program Evaluation (OMB No. 0920-0457)—Extension—National Center for HIV, STD, and TB Prevention (NCHSTP), Centers for Disease Control and Prevention (CDC).

CDC, National Center for HIV, STD, and TB Prevention, Division of Tuberculosis Elimination (DTBE), proposes to continue the Aggregate Reports for Tuberculosis Program Evaluation, previously approved under OMB No. 0920-0457. This request is for a 3-year extension of clearance. There are no revisions to the report forms, data definitions, or reporting instructions.

To ensure the elimination of tuberculosis in the United States, key program activities, such as finding tuberculosis infections in recent contacts of cases and in other persons likely to be infected and providing therapy for latent tuberculosis infection, must be monitored. In 2000, CDC implemented two program evaluation reports for annual submission: Aggregate report of follow-up for contacts of tuberculosis, and Aggregate report of screening and preventive therapy for tuberculosis infection (OMB No. 0920-0457). The respondents for these reports are the 68 state and local tuberculosis control programs receiving federal cooperative agreement funding through DTBE. These reports replaced two, twice-yearly program management reports in the Tuberculosis Statistics and Program Evaluation Activity (OMB 0920-0026): Contact Follow-up (CDC 72.16) and Completion of Preventive Therapy (CDC 72.21). The replacement reports emphasized treatment outcomes, high-priority target populations vulnerable to tuberculosis, and programmed electronic report entry and submission through the Tuberculosis Information Management System (TIMS).

No other federal agency collects this type of national TB data, and the Aggregate report of follow-up for contacts of tuberculosis, and Aggregate report of screening and preventive therapy for tuberculosis infection are the only data source about latent tuberculosis infection for monitoring national progress toward tuberculosis elimination.

In addition to providing ongoing assistance about the preparation and utilization of these reports at the local and state levels of public health jurisdiction, CDC held three national training workshops about the reports and will convene additional workshops when requested by the respondents. CDC also provides respondents with technical support for the TIMS software (Electronic—100%, Use of Electronic Signatures—No). The annual burden to respondents is estimated to be 204 hours. There is no cost to respondents.

Respondents | Number of respondents | Number of responses/respondent | Avg. burden/response (in hours) | Total burden (in hours)
State & Local TB Control Programs | 68 | 1 | 90/60 | 102
State & Local TB Control Programs | 68 | 1 | 90/60 | 102
Total |  |  |  | 204

Dated: May 31, 2002.
Julie Fishman,
Acting Associate Director for Policy, Planning and Evaluation, Centers for Disease Control and Prevention.

[FR Doc. 02-14564 Filed 6-10-02; 8:45 am]

BILLING CODE 4163-18-P